DEPARTMENT OF COMMERCE

National Oceanic and Atmospheric Administration

RIN 0648-XA382

Endangered Species; File No. 14949

AGENCY: National Marine Fisheries Service (NMFS), National Oceanic and Atmospheric Administration (NOAA), Commerce.

ACTION: Issuance of permit.

SUMMARY: Notice is hereby given that Carlos Diez, Ph.D., Puerto Rico Department of Natural Resources, Protected Species Program, P.O. Box 366147, San Juan, PR, 00936, has been issued a permit to take green (Chelonia mydas) and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727)824-5309.

FOR FURTHER INFORMATION CONTACT: Colette Cairns or Carrie Hubard, (301)713-2289.

SUPPLEMENTARY INFORMATION: On March 22, 2010, notice was published in the Federal Register (75 FR 13488) that a request for a scientific research permit to take green and hawksbill sea turtles had been submitted by the above-named individual. The requested permit has been issued under the authority of the Endangered Species Act of 1973, as amended (ESA; 16 U.S.C. 1531 et seq.) and the regulations governing the taking, importing, and exporting of endangered and threatened species (50 CFR parts 222-226).

Dr. Diez was issued a 5-year permit to provide information on the ecology and population dynamics of hawksbill and green turtles inhabiting the waters surrounding Puerto Rico and the adjacent islands including Mona, Monito, Desecheo, Caja-de-Muertos, Vieques, the Culebra Archipelago, and the Tres Palmas reserve. In addition, researchers would monitor the prevalence of fibropapillomatosis, a debilitating disease know to occur in green turtle foraging aggregations in Puerto Rico. Researchers may capture by hand, entanglement or cast net, transport, photograph, measure, weigh, flipper tag, passive integrated transponder tag, blood and tissue sample, ultrasound, attach satellite transmitters to and release sea turtles. A subset of up to 10 green turtles per year from the Culebra study sites may undergo fibropapillomatosis tumor removal surgery and subsequent rehabilitation.

Issuance of this permit, as required by the ESA, was based on a finding that such permit: (1) Was applied for in good faith, (2) will not operate to the disadvantage of such endangered or threatened species, and (3) is consistent with the purposes and policies set forth in section 2 of the ESA.

Dated: April 18, 2011.
P. Michael Payne,
Chief, Permits, Conservation and Education Division, Office of Protected Resources, National Marine Fisheries Service.

[FR Doc. 2011-9852 Filed 4-21-11; 8:45 am]

BILLING CODE 3510-22-P